DEPARTMENT OF TRANSPORTATION

Federal Aviation Administration

14 CFR Part 39

[Docket No. FAA-2005-20289; Directorate Identifier 2003-SW-55-AD; Amendment 39-14073; AD 2005-09-05]

RIN 2120-AA64

Airworthiness Directives; Eurocopter France Model EC120 Helicopters

AGENCY: Federal Aviation Administration, DOT.

ACTION: Final rule.

SUMMARY: This amendment adopts a new airworthiness directive (AD) for Eurocopter France (Eurocopter) Model EC120 helicopters that requires inspecting the tail rotor drive shaft (drive shaft) damper half-clamps (half-clamps) to determine if they are centered on the friction ring, and if not correctly positioned, centering the half-clamps on the friction ring. This amendment is prompted by the discovery of half-clamps that were incorrectly positioned. The actions specified by this AD are intended to detect incorrect positioning of the drive shaft half-clamps, and to prevent interference of the half-clamps with the drive shaft, which could result in scoring on the drive shaft, failure of the drive shaft, and subsequent loss of control of the helicopter.

DATES: Effective June 13, 2005.

The incorporation by reference of certain publications listed in the regulations is approved by the Director of the Federal Register as of June 13, 2005.

ADDRESSES: You may get the service information identified in this AD from American Eurocopter Corporation, 2701 Forum Drive, Grand Prairie, Texas 75053-4005, telephone (972) 641-3460, fax (972) 641-3527.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Eric Haight, Aviation Safety Engineer, FAA, Rotorcraft Directorate, Regulations and Policy Group, Fort Worth, Texas 76193-0111, telephone (817) 222-5204, fax (817) 222-5961.

SUPPLEMENTARY INFORMATION: A proposal to amend 14 CFR part 39 to include an AD for the specified model helicopters was published in the Federal Register on February 10, 2005 (70 FR 7056). For helicopters with a serial number of 1362 or below, that action proposed to require, within 50 hours time-in-service (TIS) for helicopters with 500 or more hours TIS; or no later than 550 hours TIS for helicopters with less than 500 hours TIS, a one-time inspection of the drive shaft half-clamps to determine if they are centered on the friction ring, and if they are not, centering the half-clamps on the friction ring.

The Direction Generale De L'Aviation Civile (DGAC), the airworthiness authority for France, notified the FAA that an unsafe condition may exist on Eurocopter Model EC120B helicopters. The DGAC advises of the discovery of a case of incorrect drive shaft damper positioning, which led to interference of the two half-clamps with the drive shaft tube and caused a score on the drive shaft.

Eurocopter has issued Alert Telex No. 65A004 R1, dated January 27, 2004, which specifies re-positioning of the drive shaft damper, if necessary. The DGAC classified this alert telex as mandatory and issued AD No. UF-2003-465, dated December 22, 2003, and AD No. F-2003-465(A), dated January 21, 2004, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings necessary for products of this type design that are certificated for operation in the United States.

Interested persons have been afforded an opportunity to participate in the making of this amendment. No comments were received on the proposal or the FAA's determination of the cost to the public. The FAA has determined that air safety and the public interest require the adoption of the rule as proposed.

We estimate that this AD will affect 78 helicopters of U.S. registry. The one-time inspection will take approximately 2 work hours to accomplish, and the modification will take 6 work hours, at an average labor rate of $65 per work hour. Required modification parts will cost approximately $180 per helicopter. Based on these figures, we estimate the total cost impact of the proposed AD on U.S. operators to be $14,700, assuming 8 helicopters need modification.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-09-05 Eurocopter France: Amendment 39-14073. Docket No. FAA-2005-20289; Directorate Identifier 2003-SW-55-AD.

Applicability: Model EC120B helicopters, serial number 1362 and below, certificated in any category.

Compliance: Required within 50 hours time-in-service (TIS) for helicopters with 500 or more hours TIS; or no later than 550 hours TIS for helicopters with less than 500 hours TIS, unless accomplished previously.

To detect incorrect positioning of the tail rotor drive shaft (drive shaft) damper half-clamps (half-clamps), and to prevent interference of the half-clamps with the drive shaft, which could result in scoring on the drive shaft, failure of the drive shaft, and subsequent loss of control of the helicopter, accomplish the following:

(a) Inspect the half-clamps, part number C651A4103201 or C651A4103202, to determine if they are centered on the friction ring, using the Operational Procedure, paragraph 2.B., of Eurocopter Alert Telex No. 65A004 R1, dated January 27, 2004 (Alert Telex). If the half-clamps are not centered on the friction ring, center the half-clamps on the friction ring in accordance with the Operational Procedure, paragraph 2.B, and Rework Sheet No. EC 120-53-02-04 in Appendix 1 of the Alert Telex.

(b) To request a different method of compliance or a different compliance time for this AD, follow the procedures in 14 CFR 39.19. Contact the Safety Management Group, Rotorcraft Directorate, FAA, for information about previously approved alternative methods of compliance.

(c) Special flight permits will not be issued.

(d) The inspection and modification shall be done in accordance with Eurocopter Alert Telex No. 65A004 R1, dated January 27, 2004. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the National Archives and Records Administration (NARA). For information on the availability of this material at NARA, call 202-741-6030, or go to: http://www.archives.gov/federal_register/code_of_federal_regulations/ibr_locations.html.

(e) This amendment becomes effective on June 13, 2005.

Note: The subject of this AD is addressed in Direction Generale De L'Aviation Civile (France) AD No. UF-2003-465, dated December 22, 2003, and AD No. F-2003-465, Revision A, dated January 21, 2004.

Issued in Fort Worth, Texas, on April 27, 2005.
Carl F. Mittag,
Acting Manager, Rotorcraft Directorate, Aircraft Certification Service.

[FR Doc. 05-8951 Filed 5-6-05; 8:45 am]

BILLING CODE 4910-13-P